DEPARTMENT OF ENERGY

Federal Energy Regulatory Commission

[Docket No. RP02-129-000]

Southern LNG Inc.; Notice of Tariff Filing

January 2, 2002.

Take notice that on December 21, 2001, Southern LNG Inc. (SLNG) tendered for filing as part of its FERC Gas Tariff, Original Volume No. 1, the tariff sheets in Appendix A to its filing, to become effective February 1, 2002.

SLNG states that the proposed changes would change the initial rates for open-access service at the liquefied natural gas (LNG) receiving terminal on Elba Island, Georgia (Elba Island Terminal). SLNG submits the changes as a limited filing under Section 4 of the Natural Gas Act, pursuant to an order of the Federal Energy Regulatory Commission issued on November 30, 2001 in Docket Nos. CP99-580-003 and CP99-582-004.

SLNG states that the proposed changes reflect the cost of recommissioning and modifying the Elba Island Terminal.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-354 Filed 1-7-02; 8:45 am]

BILLING CODE 6717-01-P